DEPARTMENT OF TRANSPORTATION

Surface Transportation Board

[Docket No. AB 1053 (Sub-No. 2X)]

Michigan Air-Line Railway Co.—Abandonment Exemption—in Oakland County, MI

On July 1, 2011, Michigan Air-Line Railway Co. (MAL Railway) filed with the Surface Transportation Board (Board) a petition under 49 U.S.C. 10502 for exemption from the provisions of 49 U.S.C. 10903 to abandon an approximately 5.45-mile rail line between milepost 45.26 (Engineer's Profile Station 2389+72), at the west line of Haggerty Road, and milepost 50.65 (Engineer's Profile Station 2677+67), at the intersection with the right-of-way of a CSX Transportation, Inc. rail line, in the City of Wixom, in Oakland County, Mich.¹ The line traverses U.S. Postal Service Zip Codes 48390 and 48393.

¹ In a decision served on May 18, 2011, the Board denied a previous petition submitted by MAL Railway to abandon the line at issue. The Board denied the petition because MAL Railway did not provide the Board with sufficient evidence regarding the revenues and costs associated with the line, thereby making it impossible to determine what burden, if any, MAL Railway incurred in continuing to operate the line. Mich. Air-Line Ry.—Abandonment Exemption—in Oakland Cnty., Mich., AB 1053 (Sub-No. 1X) (STB served May 18, 2011).

The line does not contain Federally granted rights-of-way. Any documentation in MAL Railway's possession will be made available promptly to those requesting it.

The interest of railroad employees will be protected by the conditions set forth in Oregon Short Line Railroad—Abandonment Portion Goshen Branch Between Firth & Ammon, in Bingham & Bonneville Counties, Idaho, 360 I.C.C. 91 (1979).

By issuing this notice, the Board is instituting an exemption proceeding pursuant to 49 U.S.C. 10502(b). A final decision will be issued by October 19, 2011.

Any offer of financial assistance (OFA) under 49 CFR 1152.27(b)(2) will be due no later than 10 days after service of a decision granting the petition for exemption. Each OFA must be accompanied by a $1,500 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than August 10, 2011. Each trail use request must be accompanied by a $250 filing fee. See 49 CFR 1002.2(f)(27).

All filings in response to this notice must refer to Docket No. AB 1053 (Sub-No. 2X), and must be sent to: (1) Surface Transportation Board, 395 E Street, SW., Washington, DC 20423-0001; and (2) W. Robert Alderson, 2101 SW., 21st Street Topeka, KS 66604. Replies to MAL Railway's petition are due on or before August 10, 2011.

Persons seeking further information concerning abandonment procedures may contact the Board's Office of Public Assistance, Governmental Affairs, and Compliance at (202) 245-0238 or refer to the full abandonment or discontinuance regulations at 49 CFR Part 1152. Questions concerning environmental issues may be directed to the Board's Office of Environmental Analysis (OEA) at (202) 245-0305. Assistance for the hearing impaired is available through the Federal Information Relay Service (FIRS) at 1-800-877-8339.

An environmental assessment (EA) (or environmental impact statement (EIS), if necessary) prepared by OEA will be served upon all parties of record and upon any agencies or other persons who commented during its preparation. Other interested persons may contact OEA to obtain a copy of the EA (or EIS). EAs in these abandonment proceedings normally will be made available within 60 days of the filing of the petition. The deadline for submission of comments on the EA will generally be within 30 days of its service.

Board decisions and notices are available on our Web site at: “HTTP://WWW.STB.DOT.GOV.”

Decided: July 18, 2011.
By the Board, Rachel D. Campbell, Director, Office of Proceedings.
Jeffrey Herzig,
Clearance Clerk.

[FR Doc. 2011-18404 Filed 7-20-11; 8:45 am]

BILLING CODE 4915-01-P